NUCLEAR REGULATORY COMMISSION

Revised Reactor Oversight Process Workshop

AGENCY: Nuclear Regulatory Commission

ACTION: Notice of meeting.

SUMMARY: The Nuclear Regulatory Commission (NRC) is proposing significant revisions to its processes for overseeing the safety performance of commercial nuclear power plants that include integrating the inspection, assessment, and enforcement processes. As part of its proposal, the NRC staff established a new regulatory oversight framework with a set of performance indicators and associated thresholds, developed a new baseline inspection program that supplements and verifies the performance indicators, and created a continuous assessment process that includes a method for consistently determining the appropriate regulatory actions in response to varying levels of safety performance. The changes are the result of continuing work on a concept as described in SECY-99-007, “Recommendations for Reactor Oversight Process Improvements” dated January 8, 1999, and SECY-99-007A, “Recommendations for Reactor Oversight Improvements (Follow-Up to SECY-99-007)” dated March 22, 1999. On June 18, 1999, the Staff Requirements Memorandum on SECY-99-007 and SECY-99-007A was issued which approved the scope and concepts for the revised reactor oversight process (RROP), and approved the staff's plan for conducting a pilot program. The six-month pilot program for the RROP was conducted at two sites per region from May 30, 1999, to November 27, 1999. The purpose of the pilot program was to apply the RROP and collect lessons learned so that the various processes and procedures could be refined and revised as necessary prior to initial implementation.

Now that the pilot program is complete and lessons learned identified, the NRC will hold public workshops in each of the four NRC regions. The workshop will provide information to NRC, industry, and the public on the NRC's Revised Reactor Oversight Process that is currently scheduled to be implemented starting April 2, 2000, pending NRC Commission approval. The workshop will focus on the key attributes of the new oversight process and their associated program documents.

Information about the revised reactor oversight process and the pilot program is available on the Internet at: www.nrc.gov/NRR/OVERSIGHT/index.html

A preliminary agenda for the workshop will consist of the following:

Day 1: registration, background and concept review, workshop objectives, performance indicators—overview, performance indicator threshold review, examples, and recent changes

Day 2: baseline inspection program—overview, program review, procedure review, and recent changes supplemental inspection program, inspection planning and documentation regional inspection planning significance determination processes (SDP)—reactor and non-reactor, including recent changes

Day 3: reactor and non-reactor SDPs) examples of SDP and enforcement (parallel breakout sessions for enforcement and recent changes event response inspection activities assessment process, examples, and recent changes wrap-up/closing remarks

DATES: Registration for the workshop will be held from 8:00 to 10:00 on the first day of the workshop. There is no pre-registration. The workshop will run from 10:00 a.m. to 5:00 p.m. the first day and from 8:00 a.m. to 5:00 p.m. the second and third day.

Workshop Locations

Region III

Date: Feb 22-24

Address: Hilton Lisle/Naperville, IL, 3003 Corporate West Dr, Lisle, IL 60532.

Telephone: (630)-505-0900.

Special Rate: $89.00*

Cut off date: 1/31/2000

Region II

Date: March 6-8, 2000

Address: Georgia International Convention Center (Location is Tentative), 1902 Sullivan Road, College Park, GA 30337-0506.

Hotel: There are a number of Hotels in the immediate area. The convention center does not have sleeping facilities.

Region IV

Date: March 14-16, 2000.

Address: Wyndham Arlington, 1500 Convention Center Drive, Arlington, TX 76011.

Telephone: (800)-442-7275.

Special Rate: $77*.

Cut off date: 2/11/2000.

Region I

Dated: March 21-23, 2000.

Address: Holiday Inn, Independence Mall, 400 Arch Street, Philadelphia, PA.

Telephone: (800)-843-2355.

Special Rate: $139*.

Cut off date: 2/28/2000.

* Special group rate is available when registering with the hotel and asking for the “NRC's Regulatory Oversight Process Workshop” block of rooms. The group rate is subject to applicable state and local taxes and availability.

FOR FURTHER INFORMATION CONTACT: Alan Madison, Mail Stop: O5-H4, Inspection Program Branch, Office of Nuclear Reactor Regulation, U. S. Nuclear Regulatory Commission, Washington, DC 20555-001, telephone 301-415-1490.

Dated at Rockville, Maryland, this 31st day of January 2000.
For the Nuclear Regulatory Commission.
William M. Dean,
Chief, Inspection Program Branch,Division of Inspection Program Management,Office of Nuclear Reactor Regulation.

[FR Doc. 00-2710 Filed 2-4-00; 8:45 am]

BILLING CODE 7590-01-U